ENVIRONMENTAL PROTECTION AGENCY

[EPA-HQ-OW-2014-0359; FRL-9615-01-OMS]

Information Collection Request Submitted to OMB for Review and Approval; Comment Request; Underground Injection Control Program (Renewal)

AGENCY: Environmental Protection Agency (EPA).

ACTION: Notice.

SUMMARY: The Environmental Protection Agency has submitted an information collection request (ICR), Underground Injection Control (UIC) Program (EPA ICR Number 0370.27, OMB Control Number 2040-0042) to the Office of Management and Budget (OMB) for review and approval in accordance with the Paperwork Reduction Act (PRA). This is a proposed extension of the ICR, which is currently approved through April 30, 2022. Public comments were previously requested via the Federal Register on August 25, 2021, during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 30, 2022.

ADDRESSES: Submit your comments, referencing Docket ID Number EPA-HQ-OW-2014-0359, to EPA online using https://www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be confidential business information or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Kyle Carey, Drinking Water Protection Division, Office of Ground Water and Drinking Water, 4606M, Environmental Protection Agency, 1200 Pennsylvania Ave. NW, Washington, DC 20460; telephone number: (202) 564-2322; fax number: (202) 564-3756; email address: carey.kyle@epa.gov.

SUPPLEMENTARY INFORMATION: Supporting documents, which explain in detail the information that the EPA will be collecting, are available in the public docket for this ICR. The docket can be viewed online at https://www.regulations.gov or in person at the EPA Docket Center, WJC West, Room 3334, 1301 Constitution Ave. NW, Washington, DC 20004. The telephone number for the Docket Center is 202-566-1744. For additional information about EPA's public docket, visit http://www.epa.gov/dockets.

Abstract: EPA developed the Underground Injection Control (UIC) Program under the authority of the Safe Drinking Water Act to establish a federal-state regulatory system to protect underground sources of drinking water (USDWs) from injection fluids and injection-related activities. These rules are designed to ensure that Americans receive safe drinking water, and ensure fair treatment and meaningful involvement of all people regardless of race, color, national origin, or income. Injected fluids include hazardous waste, oil field brines or produced water, mineral processing fluids, various types of industrial fluids, automotive, sanitary, and other wastes, and carbon dioxide injected for geologic sequestration. Owners or operators of injection wells must obtain permits, conduct environmental monitoring, maintain records, and report results to EPA or the state agency (if the state has UIC primary enforcement responsibility (primacy)). States must report to EPA on permittee compliance and related information. This mandatory information is reported using standardized forms and annual reports. Reporting data are used by UIC authorities to ensure the protection of USDWs.

Form Numbers: 7520-1, 7520-2A, 7520-2B, 7520-3, 7520-4, 7520-6, 7520-7, 7520-8, 7520-11, 7520-16, 7520-17, 7520-18, and 7520-19.

Respondents/affected entities: Owners or operators of underground injection wells and State UIC primacy agencies.

Respondent's obligation to respond: Mandatory (40 CFR parts 144 through 148).

Estimated number of respondents: 37,677 (total).

Frequency of response: Annual, semi-annual, quarterly.

Total estimated burden: 1,631,360 hours (per year). Burden is defined at 5 CFR 1320.03(b).

Total estimated cost: $363,309,464 (per year), includes $276,069,465 annualized capital or operation and maintenance costs.

Changes in the estimates: There is an increase of 339,100 hours in the total estimated respondent burden compared with the ICR currently approved by OMB. This increase is due to adjustments that include an increase in the number of Class I, Class II, Class III, and Class VI permit applications expected to be prepared and reviewed by UIC permitting authorities during the upcoming ICR period. The overall increase is partially offset by an inventory adjustment that results in a decrease in the number of current operators that will perform monitoring, reporting, and recordkeeping activities over the life of an injection project (due to decreases in the injection well inventory). Programmatic changes that result in minor changes to the burden estimate include revisions to the reporting forms and changes in reporting of primacy state program information, including implementing electronic reporting options (which will reduce the burden to primacy agencies) and anticipated approval of Class VI UIC Program primacy for several states, which will increase state burden (by shifting burden from EPA to the approved states).

Courtney Kerwin,
Director, Regulatory Support Division.

[FR Doc. 2022-04106 Filed 2-25-22; 8:45 am]

BILLING CODE 6560-50-P